DEPARTMENT OF COMMERCE

International Trade Administration

National Renewable Energy Laboratory, et al.; Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 2104, U.S. Department of Commerce, 14th and Constitution Avenue, NW., Washington, DC.

Docket Number: 08-022. Applicant: National Renewable Energy Laboratory, Golden, CO 80401. Instrument: Electron Microscope, Model Quanta 600 FEG. Manufacturer: FEI Company, Czech Republic. Intended Use: See notice at 73 FR 44968, August 1, 2008.

Docket Number: 08-025. Applicant: Oklahoma State University, Stillwater, OK 74078-3011. Instrument: Electron Microscope, Model Quanta 600 FEG. Manufacturer: FEI Company, Czech Republic. Intended Use: See notice at 73 FR 44968, August 1, 2008.

Docket Number: 08-028. Applicant: National Renewable Energy Laboratory, Golden, CO 80401. Instrument: Electron Microscope, Model NOVA 630 NanoSEM. Manufacturer: FEI Company, Czech Republic. Intended Use: See notice at 73 FR 44968, August 1, 2008.

Docket Number: 08-031. Applicant: University of Rochester Medical Center, Rochester, NY 14642. Instrument: Electron Microscope, Model Hitachi H-7650. Manufacturer: Hitachi High-Technologies Corp., Japan. Intended Use: See notice at 73 FR 44968, August 1, 2008.

Docket Number: 08-035. Applicant: Washington State University, Pullman, WA 99164-1020. Instrument: Electron Microscope, Model FEI Quanta 200. Manufacturer: FEI Company, Czech Republic. Intended Use: See notice at 73 FR 44968, August 1, 2008.

Docket Number: 08-037. Applicant: Duke University, Durham, NC 27710. Instrument: Electron Microscope, Model JEM-1400. Manufacturer: JEOL, Ltd., Japan. Intended Use: See notice at 73 FR 44968, August 1, 2008.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: August 27, 2008.
Faye Robinson,
Director, Statutory Import Programs Staff, Import Administration.

[FR Doc. E8-20307 Filed 8-29-08; 8:45 am]

BILLING CODE 3510-DS-P